MORRIS K. UDALL SCHOLARSHIP AND EXCELLENCE IN NATIONAL ENVIRONMENTAL POLICY FOUNDATION

The United States Institute for Environmental Conflict Resolution

Agency Information Collection Activities: Proposed Collection; Comment Request; U.S. Institute for Environmental Conflict Resolution; Application for Support From the Environmental Conflict Resolution (ECR) Participation Program

AGENCY: Morris K. Udall Scholarship and Excellence in National Environmental Policy Foundation, U.S. Institute for Environmental Conflict Resolution.

ACTION: Notice.

SUMMARY: In compliance with the Paperwork Reduction Act and supporting regulations, this document announces that the U.S. Institute for Environmental Conflict Resolution (the U.S. Institute), part of the Morris K. Udall Foundation, is planning to submit the following proposed Information Collection Request (ICR) to the Office of Management and Budget (OMB): Application for Support from the Environmental Conflict Resolution Participation Program. Before submitting the ICR to OMB for review and approval, the U.S. Institute is soliciting comments regarding the proposed information collection (see Section C, below entitled Questions to Consider in Making Comments.) This document provides information on the need for the ECR Participation Program, the information to be provided in the application form, and the burden estimate for applying for and documenting activities conducted under the ECR Participation Program. The application will not be available until all Paperwork Reduction Act requirements are met.

DATES: Comments must be submitted on or before September 24, 2001.

ADDRESSES: Please direct comments and requests for information, including copies of the proposed ICR, to: David P. Bernard, Associate Director, U.S. Institute for Environmental Conflict Resolution, 110 South Church Avenue, Suite 3350, Tucson, Arizona 85701, Fax: 520-670-5530, Phone: 520-670-5299, E-mail: bernard@ecr.gov.

FOR FURTHER INFORMATION CONTACT: David P. Bernard, Associate Director, U.S. Institute for Environmental Conflict Resolution, 110 South Church Avenue, Suite 3350, Tucson, Arizona 85701, Fax: 520-670-5530, Phone: 520-670-5299, E-mail: bernard@ecr.gov.

SUPPLEMENTARY INFORMATION:

A. Title for the Collection of Information

Application for Support from the Environmental Conflict Resolution (ECR) Participation Program from the U.S. Institute for Environmental Conflict Resolution.

B. Potentially Affected Persons

State and local governments and agencies, tribes, and non-governmental organizations who may apply for support to initiate multi-party, neutral-led conflict resolution processes on environmental and natural resource issues that involve federal agencies or interests.

C. Questions To Consider in Making Comments

The U.S. Institute for Environmental Conflict Resolution requests your comments and responses to any of the following questions related to collecting information as part of the Application for Support from the Environmental Conflict Resolution Participation Program.

1. Is the proposed application process (“collection of information”) necessary for the proper performance of the functions of the agency, including whether the information will have practical utility?

2. Is the agency's estimate of the time spent completing the application (“burden of the proposed collection of information”) accurate, including the validity of the methodology and assumptions used?

3. Can you suggest ways to enhance the quality, utility, and clarity of the information collected?

4. Can you suggest ways to minimize the burden of the information collection on those who are to respond, including through the use of appropriate automated electronic, mechanical, or other technological collection techniques or other forms of information technology?

D. Abstract

The U.S. Institute for Environmental Conflict Resolution plans to collect information in an application form to be submitted by entities and organizations for the purpose of documenting the need for U.S. Institute support, both technical and financial, for specific conflict resolution projects. Through the ECR Participation Program, the U.S. Institute will provide neutral facilitation and convening services, and related participation support, for the initiation of agreement-focused environmental conflict resolution processes. State and local governments and agencies, tribes, and non-governmental organizations, may apply for support when it is needed to create balanced stakeholder involvement processes involving federal agencies or interests.

Responses to the collection of information (the application) are voluntary, but required to obtain a benefit (financial or technical support from the U.S. Institute.) An agency may not conduct or sponsor, and a person is not required to respond to, a collection of information unless it displays a currently valid OMB control number.

Background Information: U.S. Institute for Environmental Conflict Resolution. The U.S. Institute for Environmental Conflict Resolution was created in 1998 by the Environmental Policy and Conflict Resolution Act (P.L. 105-156). The U.S. Institute is located in Tucson, Arizona and is part of the Morris K. Udall Foundation, an independent agency of the executive branch of the federal government. The U.S. Institute's primary purpose is to provide impartial, non-partisan assistance to parties in conflicts involving environmental, natural resources, and public lands issues involving a federal interest. The U.S. Institute provides assistance in seeking agreement or resolving disputes through use of mediation and other collaborative, non-adversarial means.

The Need for and Proposed Use of the Information Collected in the Application for the ECR Participation Program: The ECR Participation Program is designed to achieve several objectives, consistent with the U.S. Institute's mission of promoting resolution of environmental disputes involving federal agencies. The specific objectives for this program are:

• To further the U.S. Institute goal of increasing the use of ECR in environmental, natural resource, and public lands conflicts that involve federal agencies.

• To encourage high quality dispute resolution processes by supporting appropriate use of ECR strategies and appropriate balance among interests involved in the processes.

• To support the ability of all affected parties to participate effectively in ECR processes.

The U.S. Institute conducted an assessment of the need for support to foster participation by all essential parties in ECR efforts early in 2001. The U.S. Institute consulted with representatives of constituencies who would be potential users of this program to ascertain their views of the need for ECR participation support. Representatives of environmental groups, natural resource users, tribes, local and state governments, and ECR practitioners provided information about the specific needs for such a fund and about criteria for eligibility.

The consultative contacts identified the following needs for participation support.

• Many opportunities exist to build consensus on environmental and natural resource issues, but the parties are often unable to do so without neutral, third party assistance.

• State, local, non-governmental, and tribal entities often lack the technical and financial resources to obtain neutral feasibility assessments, ECR process design and facilitation.

• Third party assistance is often required to ensure balanced representation, or a level playing field, for non-governmental, state and local groups, and others who are not paid to participate in environmental negotiations and collaborative processes.

• There is also a need to provide training in interest-based negotiations for those working to overcome serious differences on environmental and natural resource issues.

• A participation support program should be easy to use and accessible to all types of applicants involved in ECR processes, but particularly to groups and situations that would be less likely than others to succeed without it.

The U.S. Institute developed guidelines and application forms to gather information about ECR processes for which support was requested. The U.S. Institute requires a mechanism for determining if the applicants meet the criteria for receiving support and for targeting support to the most promising ECR efforts (i.e. those likely to produce implementable results through collaboration.) The selection criteria for U.S. Institute support include:

Required Criteria

The U.S. Institute will target participation support to ECR efforts:

• Where the initiators, co-sponsors, or key parties to the conflict resolution effort are state or local governments or agencies, tribes, or non-governmental organizations;

• Involving a federal agency or federal interest;

• That are, or likely will be, agreement seeking; and

• Involve a third party neutral facilitator or mediator who is a member of the U.S. Institute's Roster of Environmental Dispute Resolution and Consensus Building Professionals, or who has equivalent experience.

Discretionary Criteria

The following additional factors will be considered when choosing among applicants who meet the requirements stated above. Project support from the U.S. Institute will be more likely when:

• The quality of the proposed process would suffer without support from the U.S. Institute,

• Resources from an impartial source (i.e. the U.S. Institute) would be beneficial to the ECR process,

• Applicants demonstrate a commitment to the ECR process through in-kind contributions, previous collaborative efforts, or allocations of personnel, time and resources to building consensus on the issues involved, and/or

• The conflict involves resolution of issues that could have a national impact.

Quarterly progress reports will be used to collect information about the use of any funding provided and to maintain accountability of the contracted entity receiving financial support, usually a neutral facilitator.

The program will be open for applications through September 30, 2003, roughly two years from approval of the information collection request.

Draft Application Form: The Draft Guidelines and Application Form are attached. The format of the actual application will be modified to use fonts, spacing and formatting for optimum electronic use.

E. Burden Statement

The Application Form will be available in both hard copy and through the U.S. Institute's web site. It is a two-page list of questions about the proposed ECR effort and the activities that require support. The application includes suggested budget formats, and is designed to allow applicants to attach existing documents and, where possible, reduce the time required for completion of the application. An application can be submitted electronically, through e-mail, and/or in hard copy via fax or mail. The required quarterly progress report form is also included in the application form attached to this submittal.

The Burden calculation includes time for applicants to complete the application form and the time required for the submittal of quarterly reports. It assumes a pool of 15 applicants per year, and assumes that 10 of the applications will be approved. Quarterly reports would be required only for those ten funded projects. It further assumes an average of four quarterly project reports per project.

Likely Respondents: State agency staff, local government staff, non-governmental organizations, tribal governments, and natural resource user group association staff or members.

Estimated Number of Respondents (per year): 15.

Proposed Frequency of Response: One response per application, plus up to four quarterly progress reports per year.

Respondent Time Burden Estimates:

Estimated Time per Response for Initial Application: Eight hours.

Estimated Time per Responder for Quarterly Reports: 4 hours per year (1 hour per report).

Estimated Total Burden Per Year for Applications: 120 hours for 15 applicants.

Estimated Total Burden Per Year for Quarterly Reports: 40 hours for ten projects.

Respondent Cost Burden Estimates (at $55 per hour (managerial level salary)):

No capital or start-up costs.

Estimated Cost per Respondent per application: $440.

Estimated Cost per Project for Quarterly Reports: $220.

Estimated Total Annual Cost Burden for 15 Applications: $6,600.

Estimated Total Annual Cost Burden for Quarterly Reports: $2,200.

Estimated Total Annual Cost Burden: $8,800.

Estimated Total Cost Burden, Two Years: $17,600.

Burden means the total time, effort, or financial resources expended by persons to generate, maintain, retain, or disclose or provide information to or for a Federal agency. This includes the time needed to review instructions; develop, acquire, install, and utilize technology and systems for the purpose of collecting, validating, and verifying information, processing and maintaining information, and disclosing and providing information and transmitting information.

(Authority: 20 U.S.C. Sec. 5601-5609)

Dated: July 16, 2001.
Christopher L. Helms,
Executive Director, Morris K. Udall Foundation.

Guidelines

Draft; Do Not Submit

The U.S. Institute for Environmental Conflict Resolution is a federal program established by the U.S. Congress to assist parties in resolving environmental, natural resource, and public lands conflicts. The U.S. Institute is part of the Morris K. Udall Foundation, an independent agency within the executive branch of the federal government. The U.S. Institute serves as an impartial, non-partisan institution providing professional expertise, services, and resources to all parties involved in such disputes, regardless of who initiates or pays for assistance. The U.S. Institute helps parties determine whether collaborative problem solving is appropriate for specific environmental conflicts, how to bring all the parties to the table when appropriate, and whether a third-party facilitator or mediator might be helpful in assisting the parties to resolve the conflict. In addition, the U.S. Institute provides mediation and facilitation services, maintains a roster of qualified facilitators and mediators with substantial experience in environmental conflict resolution, and can help parties in selecting a neutral when asked. (See www.ecr.gov for more information.)

The U.S. Institute has established the ECR Participation Program to provide support for the full participation of all essential parties in specific environmental conflict resolution (ECR) efforts. ECR is defined, for the purposes of this program, as the intervention of a neutral to assist affected interests in developing and conducting processes that reach agreement on controversial environmental issues. This document outlines how eligible parties can apply for U.S. Institute assistance under the ECR Participation Program.

Objectives of the ECR Participation Program

Consistent with the U.S. Institute's mission of promoting resolution of environmental disputes involving federal agencies and other parties, the ECR Participation Program is designed to achieve several objectives:

• To further the U.S. Institute goal of increasing use of ECR in environmental, natural resource, and public lands conflicts involving federal agencies.

• To encourage high quality dispute resolution processes by supporting appropriate use of ECR strategies and appropriate balance among interests involved in the processes.

• To increase the ability of all affected parties to participate effectively in ECR processes.

What Activities Can Be Supported?

The U.S. Institute will provide neutral services and related participation support for initiation of agreement-focused environmental conflict resolution efforts. State and local governments, tribes, and non-governmental organizations may apply for support to initiate multi-party, neutral-led conflict resolution processes that involve federal agencies or interests. Support under the ECR Participation Program is not provided to federal agencies. Participation support is available for two-phases of ECR activities:

Phase One activities are:

• Consultation with the U.S. Institute or a contracted neutral about the potential for using ECR in a given situation,

• Assistance to parties in the identification and selection of an appropriate neutral, preparation of a scope of work, and contract management,

• A full conflict assessment conducted by a neutral and involving consultation with all affected interests about the feasibility and design of a specific ECR project, and/or

• Training for potential stakeholders in ECR methods to help determine whether ECR would be useful to address a specific situation.

Phase Two activities are those that take place after a decision is made to proceed with an ECR process. If barriers to participation in that process are identified through a conflict assessment, Phase Two support could help overcome these barriers. Phase Two support is available for:

• Neutral facilitation services,

• Services of technical experts. This support is intended to help ensure that all parties can contribute fully to consensus decision-making; it is not provided to support individual interest groups or caucuses,

• ECR project-specific training and other activities that increase the capacity of negotiation groups to work in an interest-based and collaborative manner,

• Direct costs for meeting logistics, such as meeting facilities, teleconferencing, and meeting recording services when no other source of such funding is available,

• Direct costs for participants to attend meetings when no other source of such funding is available, and/or

• Other activities that will have a direct impact on improving the quality of the ECR effort.

Who Should Apply?

Potential initiators, co-sponsors, or key participants in ECR processes (other than federal agencies) are eligible to apply for U.S. Institute support. Support will be targeted to situations that meet the required selection criteria, outlined below.

What Support Is Available?

It is expected that the average project will receive participation support up to $20,000 for Phase One activities, and no more than $50,000 for Phase Two. Phase Two support will require an additional application if the applicant has already received Phase One support. It would be considered on an expedited basis.

There is no requirement for matching funds for Phase One, although demonstration of commitment to the ECR process through in-kind support or match funds from other organizations is encouraged. For Phase Two, the U.S. Institute will provide no more than 50% of the support required for that phase.

When funding is for a neutral, the ECR participation support will be made available through an U.S. Institute contract directly with the neutral ECR professional. For other activities, the U.S. Institute will either directly process reimbursement payments or contract with the applicant.

What Are the Selection Criteria?

Required Criteria

The U.S. Institute will target participation support to ECR efforts:

• Where non-federal entities are the initiators, co-sponsors, or key parties to the conflict,

• Involving a federal agency or federal interest,

• That are, or likely to be, agreement seeking, and

• Involve a third-party neutral facilitator or mediator who is a member of the U.S. Institute's roster of Environmental Dispute resolution and Consensus Building Professionals, or who has equivalent experience,

• For Phase Two projects, a previous conflict assessment and a 50% or more financial match.

Discretionary Criteria

The following additional factors will be considered when choosing among applicants who meet the requirements stated above. Project support from the U.S. Institute will be more likely when:

• The quality of the proposed process would suffer without the support from the U.S. Institute,

• Resources from an impartial source (i.e., the U.S. Institute) would be beneficial to the ECR process,

• Applicants demonstrate a commitment to the ECR process through in-kind contributions, previous collaborative efforts, or allocations of personnel, time and resources to building consensus on the issues involved, (a financial match is required for Phase Two projects) and/or

• The conflict involves resolution of issues that could have a national impact.

How Is a Project Administered?

• U.S. Institute support will be provided to the applicant through a contractual arrangement involving the applicant, the neutral, and the U.S. Institute, with payment on a reimbursement basis.

• Applicants must provide a brief quarterly report for the duration of the project. A reporting format is provided with the application form.

• Applicants agree to credit the U.S. Institute for any support received as opportunities arise to do so.

• Applicants agree to cooperate in documentation efforts for case studies and evaluations of the ECR Participation Program and for other ECR evaluation efforts.

What Is the Application Process?

The first step in the application process is to thoroughly review the application form, including the Frequently Asked Questions. Next, the applicant—which must be a non-federal entity initiating a conflict assessment—should contact the U.S. Institute by telephone. The ECR Participation Program manager at the U.S. Institute will help the applicant determine whether and how to complete the application form.

An ECR Participation Program application can be submitted at any time. The U.S. Institute will make its decision no later than 30 days after an application is deemed complete. If an application for support is declined, a proposal may be modified and resubmitted once more within the life of the ECR project.

The application must be complete before the U.S. Institute begins its decision-making review. Assistance with scoping the project tasks and preparing a budget can be obtained from U.S. Institute staff. The application must include the following elements:

• Name and contact information for the applicant.

• A description of the ECR process for which the support will be used. The description should be a one-page summary with attachments, covering all of the following items:

• A brief overview of the conflict being addressed,

• A list of potential participants and their affiliations,

• A description of the expected product or agreement,

• The suggested neutral, if one has already been identified,

• (For Phase Two applications) a copy of the conflict assessment,

• (For Phase Two applications) a copy of the process groundrules, and a detailed outline of the activities which will be conducted with the requested support.

• A statement outlining how the application meets the required and discretionary support criteria.

• A detailed budget for the support requested.

Project Application Form

An application form is attached, and is also available at the U.S. Institute website.

For Further Information

Please contact: David Bernard, Associate Director, U.S. Institute for Environmental Conflict Resolution, 110 South Church Avenue, Suite 3350, Tucson, AZ 85701, Telephone: 520/670-5299, Fax: 520/670-5530, E-mail: bernard@ecr.gov.

Application Form

(Draft; Do Not Submit)

1. Project Title:

2. Date of Submission:

3. Support requested for___ Phase One___ Phase Two

4. Applicant:

Name:

Address:

Phone:

Fax:

E-mail:

Designated Contact or Project Manager:

5. Description of ECR Project for Which Support Is Requested: (One-page summary covering the following items. Attach supporting documents, if available.)

Conflict Addressed by the Project:

List of Potential Participants and their Affiliations:

Agreement or Product Sought:

(For Phase Two applications) Conflict Assessment Results: (A copy of a written conflict assessment is sufficient.)

(For Phase Two applications) Groundrules for Participants:

6. Outline of Activities for Which Support is Requested: Specify type of assistance (see list of activities on page two of this information packet). Outline all tasks or sub activities, creating a scope of work for the support funded through the U.S. Institute. (See required format in the budget section and/or consult with the U.S. Institute for help with this section.)

7. Describe (in no more than two pages) how the application meets the required and discretionary funding criteria (see list on page three of this information packet):

8. Budget (see example budget, attached and request U.S. Institute help with this section, if desired):

A. Specify category(s) of support requested (see list of activities on page two of this information packet).

B. Assign cost to each activity listed in Item 5 of the application.

C. Provide a total for the support requested.

D. Attach the total budget for the entire ECR project, if available.

E. For Phase Two applications, the U.S. Institute will only fund up to 50% of the total proposed Phase Two costs. The application must document the sources of the matching funds for the remaining 50%. A sample budget format that includes a matching component is included.

Please note that incomplete or unclear presentation of project costs and/or details regarding requested support will result in delays in processing applications.

Application Budget Format—Phase One Request

Example Budget A: Neutral Conflict Assessment.

(The activities and quantities in this example are for illustrative purposes only)

Project Title:

Applicant Name:

Category of Support Required: Neutral Conflict Assessment.

Task | Hours | Cost per hour | Labor total
1. Read background on conflict | 6 | $100 | $600
2. Interview 5 key parties | 20 | 100 | 2,000
3. Interview addtl 25 parties, if warranted | 40 | 100 | 4,000
4. Determine feasibility | 5 | 100 | 450
5. Draft feasibility report and recommended process design | 16 | 100 | 1,600
Total Labor |  |  | 8,700

Other Direct Costs

| Dollars
Neutral Travel for Conflict Assessment: | $3,390
5 trips Phoenix to Boise to interview parties:
Airfare | 450
Hotel | 80
Ground transportation | 120
Per diem | 28
Total per trip | 678
Miscellaneous | 230
Phone | 100
Reproduction | 30
Postage/Shipping | 100
Total Project Budget | 12,320

Application Budget Formats—Phase Two Requests

Example Budget B: Technical Consultant Services

(The activities and quantities in this example are for illustrative purposes only)

Project Title:

Applicant Name:

Category of Support Requested: Technical Consultant Services.

Activity | Hours | Unit cost (per hour) | Total
Review technical documents | 24 | 100 | $2,400
Provide technical advice at 8 meetings | 64 | 100 | 6,400
Consult with subcommittee to produce draft proposals | 24 | 100 | 2,400
Total | 112 |  | 11,200

Example Budget C: Meeting Attendance Expenses

(The activities and quantities in this example are for illustrative purposes only)

Project Name:

Applicant Name:

Category of Support Requested: Support for Meeting Attendance.

Cost per Meeting:

Airfare: $370

Mileage at $.32

Hotel (at govt. per diem for area): $85

Total per participant per mtg.: $455 + mileage, if any

Participant receiving support | Number of meetings | Cost per meeting | Total
John Doe (no mileage) | 4 | $455 | $1,820
Jane Doe (no mileage) | 4 | 455 | 1,820
Sally Smith (no airfare, 100 miles) | 2 | 117 | 234
Total support needed |  |  | 3,874

Application Budget Formats—Phase Two Requests

Example Budget D: Neutral Facilitation Services with Match

(The activities and quantities in this example are for illustrative purposes only)

Budget element | Match | Requested U.S. institute support | Complete project
Neutral's labor | ¹ $7,050 | $30,000 | $37,050
Neutral's travel |  | 4,000 | 4,000
Neutral's other direct costs (phone, copying, postage, etc.) |  | 1,000 | 1,000
Other labor | ² 5,000 |  | 5,000
Mtg. support (meeting rooms, teleconference, xeroxing, audio visual, note-taker) | ³ 20,000 |  | 20,000
Technical experts | ¹ 10,000 |  | 10,000
Other costs |  |  |
Totals | 42,050 | 35,000 | 77,050
Percent of total | 55 | 45 | 100
¹ The Metropolitan Planning Council will provide an in-house technical expert on the subject of the dispute.
² The state environmental agency will contribute the follow staff hours: 25 hrs. @ $75, 50 hrs. @ $45, and 25 hrs. @ $35 (the rates are fully burdened, i.e., they include benefits and salary/wages).
³ The state agency match for meeting expenses will be provided through an existing meeting management contract on the project and through in-kind support. In-kind personnel for note taking will be provided through a .16 Full Time Equivalent (FTE) staff person (which equals $5,000). The remaining meeting logistical support of $15,000 will be provided through a separate agency contract mechanism.

Quarterly Report Form

(Draft; Do Not Submit)

Project Title:

Project Manager:

Period Covered by This Report:

Date of This Report:

Activities Conducted with U.S. Institute Funds Since Last Report (Attach a 1-2 page summary).

Total Expenses Incurred This Quarter:

Total Budget Amount:

Total Expended this Quarter:

Cumulative Total Expended to Date:

Balance Available for Future Activities: (Attach an expenditure report showing budgeted amounts for each budget category, together with expenditures for this reporting period and cumulative expenditures since the start of the project).

Additional Comments: (Explain delays, barriers to use of funds, pace of expenditures, etc.)

Authorized Signature

Title

[FR Doc. 01-18358 Filed 7-23-01; 8:45 am]

BILLING CODE 6820-EN-P